DEPARTMENT OF JUSTICE

Notice of Lodging of Proposed Consent Decree Under the Comprehensive Environmental Response, Compensation, and Liability Act

On May 17, 2019, the Department of Justice lodged a proposed Consent Decree with the United States District Court for the Middle District of Florida in the lawsuit entitled United States of America v. BKF Capital Group, Inc., Civil Action No. 8:18-cv-01863-VMC-TGW.

The Consent Decree resolves the United States' claims set forth in its complaint against BKF Capital Group, Inc. (“Defendant”) for cost recovery under Section 107 of the Comprehensive Environmental Response, Compensation, and Liability Act (“CERCLA”) relating to the release or threatened release of hazardous substances into the environment at Cattle Dipping Vat A (Site No. OT-59A) in Polk County, Florida, and Cattle Dipping Vats C and D (Site Nos. OT-59C and OT-59D) in Highlands County, Florida (together, the “Vat Sites”) within the Avon Park Air Force Range (“APAFR”). Under the terms of the proposed consent decree, Defendant will reimburse $725,000 of the costs incurred by the United States Air Force in connection with response actions at the Vat Sites. In return, the United States agrees not to sue or take administrative action against Defendant under Section 107(a) or Section 113 of CERCLA with regard to the Vat Sites.

The publication of this notice opens a period for public comment on the Consent Decree. Comments should be addressed to the Assistant Attorney General, Environment and Natural Resources Division, and should refer to United States of America v. BKF Capital Group, Inc., D.J. Ref. No. 90-11-3-11242. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $4.75 (25 cents per page reproduction cost) payable to the United States Treasury. For a paper copy without the appendix and signature pages, the cost is $3.00.

Henry Friedman,
Assistant Section Chief, Environmental Enforcement Section, Environment and Natural Resources Division.

[FR Doc. 2019-10941 Filed 5-23-19; 8:45 am]

BILLING CODE 4410-15-P